DEPARTMENT OF VETERANS AFFAIRS

[OMB Control No. 2900-0797]

Agency Information Collection Activity under OMB Review: GI Bill® School Feedback Tool

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0797.”

FOR FURTHER INFORMATION CONTACT: VA PRA information: Maribel Aponte, 202-461-8900, vacopaperworkreduact@va.gov.

SUPPLEMENTARY INFORMATION:

Title: GI Bill® School Feedback Tool, No Form.

OMB Control Number: 2900-0797, https://www.reginfo.gov/public/do/PRASearch.

Type of Review: Revision of a currently approved collection.

Abstract: Executive Order 13607, Establishing Principles of Excellence, which is now identified as the GI Bill School Feedback Tool is used for Educational Institutions serving service members, Veterans, spouses, and other family members, requires the establishment of a centralized complaint system for students receiving federal military and Veteran educational benefits. The purpose of the complaint system is to provide a standardized method to submit a complaint against an educational institution alleging fraudulent and unduly aggressive recruiting techniques, misrepresentation, payment of incentive compensation, failure to meet state authorization requirements, or failure to adhere to the Principles of Excellence as outlined in the Executive Order. The VA's Principles of Excellence GI Bill® School Feedback Tool leverages the Salesforce platform to collect and manage complaints. The complainants access the complaint system through the GI Bill website and eBenefits portal. Veterans, family members, or other members of the public are able to open links at the VA website location and enter the requested information. Complainants are offered the opportunity to review the information in their complaint prior to clicking on the submit button. Once a complaint is submitted, the complainant receives an email verifying that the complaint was received.

At this point, the complaint is stored in the complaint system and is available to select VA employees for review. VA reviews the complaint, and on behalf of the complainant, shares the complaint with the institution which is subject of the complaint. VA requests the institution to formally respond to the complaint within 90 days. If an institution fails to respond within 90 days, VA will contact the institution and request a status update.

Once VA receives a response from the institution, VA will forward the response to the complainant. At this point, VA will close the case. Valid complaints received are transmitted to the central repository at FTC Consumer Sentinel. The information in the central repository is the same information provided by the complainant. Authorized law enforcement officials who have been granted access to the FTC Consumer Sentinel database have access to view all complaints. The respondent submits a complaint about an educational institution online through either the GI Bill website or the eBenefit portal. The information gathered can only be obtained from the individual respondents. Valid complaints will be accepted from third parties. The Feedback Tool process for VA's complaint system data elements include:

Institution/Employer: There are over 36,000 educational institutions that are approved for VA education benefits.

Anonymous Complaints: The Feedback Tool Complaint System allows for a user to file anonymous complaints. Based on working group discussions with CFPB and FTC, VA believes that allowing anonymous complaints will garner more ground truth on what is happening with Veterans using their education benefits at different schools.

Required fields: As a result of allowing anonymous complaints, many of the fields will not be required by VA.

An agency may not conduct or sponsor, and a person is not required to respond to a collection of information unless it displays a currently valid OMB control number. The Federal Register Notice with a 60-day comment period soliciting comments on this collection of information was published at 89 FR 51392, June 17, 2024.

Affected Public: Individuals and Households.

Estimated Annual Burden: 305 hours.

Estimated Average Burden Time per Respondent: 15 minutes.

Frequency of Response: On Occasion.

Estimated Number of Respondents: 1,222.

Authority: 44 U.S.C. 3501 et seq.

Maribel Aponte,
VA PRA Clearance Officer, Office of Enterprise and Integration, Data Governance Analytics, Department of Veterans Affairs.

[FR Doc. 2024-18723 Filed 8-20-24; 8:45 am]

BILLING CODE 8320-01-P